GENERAL SERVICES ADMINISTRATION

48 CFR Part 552

[GSAR Change 56; GSAR Case 2012-G501; Docket No. 2013-0006; Sequence 1]

RIN 3090-AJ36

General Services Administration Acquisition Regulation (GSAR); Electronic Contracting Initiative (ECI); Technical Amendment

AGENCY: General Services Administration (GSA).

ACTION: Final rule.

SUMMARY: This document makes an amendment to the General Services Administration Acquisition Regulation (GSAR); in order to make editorial change.

DATES: Effective: May 21, 2014.

FOR FURTHER INFORMATION CONTACT: Ms. Dana Munson, General Services Acquisition Policy Division, at 202-357-9652, for clarification of content. For information pertaining to status or publication schedules, contact the Regulatory Secretariat Division (MVCB), 1800 F Street NW., Washington, DC 20405, 202-501-4755. Please cite GSAR Case 2012-G501; Technical Amendment.

SUPPLEMENTARY INFORMATION: In order to update certain elements in 48 CFR part 552, this document makes an editorial change to the GSAR.

List of Subjects in 48 CFR Part 552

Government procurement.

Dated: May 14, 2014.
Jeffrey Koses,
Senior Procurement Executive, Office of Acquisition Policy, Office of Government-wide Policy.

Therefore, GSA amends 48 CFR part 552 as set forth below:

PART 552—SOLICITATION PROVISIONS AND CONTRACT CLAUSES

1. The authority citation for part 552 continues to read as follows:

Authority: 40 U.S.C. 121(c).

552.238-81 [Amended]

2. Amend section 552.238-81 by removing from paragraph (b)(1)(iv) “FAR 552.211-78, Commercial Delivery Schedule (Multiple Award Schedule)” and adding “the request for proposal” in its place.

[FR Doc. 2014-11676 Filed 5-20-14; 8:45 am]

BILLING CODE 6820-61-P